DEPARTMENT OF ENERGY

Federal Energy Regulatory Commission

[Docket No. AD10-12-015]

Increasing Market and Planning Efficiency Through Improved Software; Notice of Technical Conference: Increasing Real-Time and Day-Ahead Market and Planning Efficiency Through Improved Software

Take notice that Commission staff will convene a technical conference on July 9, 10, and 11, 2024 to discuss opportunities for increasing real-time and day-ahead market and planning efficiency through improved software. A detailed agenda with the list of presentation dates and times for the selected speakers will be published on the Commission's website ¹ and in eLibrary after April 26, 2024.

¹ https://www.ferc.gov/industries-data/electric/power-sales-and-markets/increasing-efficiency-through-improved-software.

This conference will bring together experts from diverse backgrounds including electric power system operators, software developers, government, research centers, and academia. The conference will bring these experts together for the purposes of stimulating discussion, sharing information, and identifying fruitful avenues for research on improving software for increased efficiency and reliability of the bulk power system.

This conference will build on discussions at prior conferences in this proceeding by focusing on topics identified as important to market efficiency in those conferences. Broadly, such topics fall into the following categories:

(1) Software for including climate change and extreme weather in short-term load forecasting and in long-term planning models, including novel methodologies for assessing capacity accreditation, energy adequacy, correlated outages, and weather-related derates and outages. Software advances to integrate probabilistic models into system planning models, whether scenario-based or stochastic, to better account for low-probability, high-impact events, such as extreme weather events.

(2) Software for improving the efficiency of the interconnection process, including improved interconnection studies, software for automating parts of the interconnection process, software for expediting power flow analyses related to interconnection, etc.

(3) Software for implementing advanced computing methods such as artificial intelligence (AI) or machine learning into existing or novel applications for improving real-time and day-ahead market and planning efficiency.

(4) Software related to grid-enhancing technologies, such as those described in Docket Nos. AD19-19 ² and AD19-15,³ including optimal transmission switching, dynamic transmission line ratings, power flow controls, and any software related to implementing the Commission's recent rulemaking regarding line ratings in Order No. 881.⁴

² Grid-Enhancing Technologies, Docket No. AD19-19-000.

³ Managing Transmission Line Ratings, Docket No. AD19-15-000.

⁴ Managing Transmission Line Ratings, Order No. 881, 177 FERC ¶ 61,179 (2021).

(5) Software for improving the performance of generating resources' ability and incentives to follow dispatch instructions and for eliminating unnecessary make-whole payments, including software for ensuring that product awards reflect prevailing transmission constraints and capabilities of resources to deliver awarded products.

(6) Software for better modeling and computation of resources with distinct operating characteristics such as storage resources, multi-stage/multi-configuration resources, hybrid resources, aggregations of Distributed Energy Resources (DERs) (including DER Management Systems, or DERMS), and others. Presentations on this topic should focus on alternative formulations and solution methods for market models.

(7) Other improvements in algorithms, model formulations, or hardware advancements that may allow for improvements to the bulk power system in market efficiency and enhanced reliability.

The conference will take place in a hybrid format, with presenters and attendees allowed to participate either in person or virtually. Further details on both in-person and virtual participation will be released prior to the conference.

Attendees must register through the Commission's website on or before June 3, 2024. Access to the conference (virtual or in-person) may not be available to those who do not register.

Speaker nominations must be submitted on or before April 19, 2024 through the Commission's website by providing the proposed speaker's contact information along with a title, abstract, and list of contributing authors for the proposed presentation.⁵ Proposed presentations should be related to the topics discussed above. Speakers and presentations will be selected to ensure relevance to those topics and to accommodate time constraints.

⁵ https://www.ferc.gov/power-sales-and-markets/increasing-efficiency-through-improved-software.

Speakers are encouraged to submit new findings and novel work to ensure that the conference reflects the latest research. Presentations that only repeat similar content from previous years' conferences may be rejected. Presentation proposals that involve many of the same co-authors and have similar contents may be combined into a single proposal for one presentation.

All presentations materials (e.g., presentation slides) are due no later than 5:00 p.m. EDT on July 1, 2024. Before 1:00 p.m. EDT on July 8, 2024, Commission staff will work with presenters to provide quality assurance that their presentation materials are prepared, formatted correctly, and ready for delivery during the conference. All presentation materials submitted before 1:00 p.m. on July 8, 2024 will be posted to the Commission website before the conference. Any updated presentation materials submitted after 1:00 p.m. on July 8, 2024 will be posted to the Commission website after the conference; however, the live conference may use presentation material versions submitted prior to the deadline rather than late submissions.

The Commission will accept comments following the conference, with a deadline of August 12, 2024.

There is an “eSubscription” link on the Commission's website that enables subscribers to receive email notification when a document is added to a subscribed docket(s). For assistance with any FERC Online service, please email FERCOnlineSupport@ferc.gov, or call (866) 208-3676 (toll free). For TTY, call (202) 502-8659.

FERC conferences are accessible under section 508 of the Rehabilitation Act of 1973. For accessibility accommodations please send an email to accessibility@ferc.gov or call toll free (866) 208-3372 (voice) or (202) 502-8659 (TTY), or send a fax to (202) 208-2106 with the required accommodations.

For further information about these conferences, please contact:

Sarah McKinley (Logistical Information), Office of External Affairs, (202) 502-8004, Sarah.McKinley@ferc.gov

Alexander Smith (Technical Information), Office of Energy Policy and Innovation, Alexander.Smith@ferc.gov

Monica Ferrera, Office of Energy Policy and Innovation, Monica.Ferrera@ferc.gov

Dated: February 29, 2024.
Debbie-Anne A. Reese,
Acting Secretary.

[FR Doc. 2024-04805 Filed 3-6-24; 8:45 am]

BILLING CODE 6717-01-P